NATIONAL CREDIT UNION ADMINISTRATION

Sunshine Act Meeting

time and date: 10 a.m., Thursday, October 20, 2005.

place: Board Room, 7th Floor, Room 7047, 1775 Duke Street, Alexandria, VA 22314-3428.

status: Open.

matters to be considered: 1. Quarterly Insurance Fund Report.

2. Final Rule: Part 713 of NCUA's Rules and Regulations, Fidelity Bond and Insurance Coverage for Federal Credit Unions.

FOR FURTHER INFORMATION CONTACT: Mary Rupp, Secretary of the Board, Telephone: (703) 518-6304.

Mary Rupp,
Secretary of the Board.

[FR Doc. 05-20865 Filed 10-13-05; 3:15 pm]

BILLING CODE 7535-01-M